DEPARTMENT OF HOMELAND SECURITY

Coast Guard

[USCG-2010-0164]

National Boating Safety Advisory Council

AGENCY: Coast Guard, DHS.

ACTION: Notice of teleconference meeting.

SUMMARY: The Boats and Associated Equipment Subcommittee of the National Boating Safety Advisory Council (NBSAC) will meet via teleconference and online webinar to discuss safety issues related to boats and associated equipment. This teleconference meeting will be open to the public.

DATES: The teleconference/webinar meeting will take place on Tuesday, April 16, 2013, from 1 p.m. to 3 p.m. EST. This meeting may end early if all business is finished before 3 p.m. If you wish to make oral comments at the teleconference, simply notify Mr. Jeff Ludwig before the meeting, as specified in the ADDRESSES section, or the designated Coast Guard staff at the meeting. If you wish to submit written comments or make a presentation, submit your comments or request to make a presentation by April 11, 2013.

ADDRESSES: The Subcommittee will meet via teleconference and online webinar. To participate by phone and view the webinar, contact the Alternate Designated Federal Officer (ADFO) listed below in the FOR FURTHER INFORMATION CONTACT section to obtain teleconference/webinar information. Note the number of teleconference lines is limited and will be available on a first-come, first-served basis. To join those participating in this teleconference from U.S. Coast Guard Headquarters, come to Room 5-0624, U.S. Coast Guard Headquarters Building, 2100 Second Street SW., Washington, DC 20593. You must present a valid, government-issued photo identification to gain entrance to the Coast Guard Headquarters building.

If you want to make a presentation, send your request by April 11, 2013, to Mr. Jeff Ludwig, NBSAC ADFO, telephone 202-372-1061, Commandant (CG-BSX-2), 2100 Second Street SW Stop 7581, Washington, DC 20593-7581 or by fax to 202-372-1908. To facilitate public participation, we are inviting public comment on the issues to be considered by the committee as listed in the “Agenda” section below. You may submit a written comment on or before April 11, 2013 or make an oral comment during the public comment portion of the meeting.

To submit a comment in writing, use one of the following methods:

• Federal eRulemaking Portal: http://www.regulations.gov

Follow the instructions for submitting comments.

• Email: jeffrey.a.ludwig@uscg.mil Include the docket number (USCG-2010-0164) on the subject line of the message.

• Fax: (202) 372-1908 Include the docket number (USCG-2010-0164) on the subject line of the fax.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9239.

Instructions: Include the words “Department of Homeland Security” and the docket number of this notice in your submission. All comments submitted will be posted on www.regulations.gov without alteration and will contain personal information you provided. You may review a Privacy Act notice regarding our public dockets in the January 17, 2008, issue of the Federal Register (73 FR 3316).

Docket: For access to the docket to read documents or comments related to this NBSAC meeting, go to www.regulations.gov, insert “USCG-2010-0164” in the “Search” box and then click “Search.”

FOR FURTHER INFORMATION CONTACT: Mr. Jeff Ludwig, USCG, NBSAC ADFO, telephone 202-372-1061, email jeffrey.a.ludwig@uscg.mil. If you have any questions on viewing or submitting material to the docket, call Barbara Hairston, Program Manager, Docket Operations, telephone 202-366-9826.

SUPPLEMENTARY INFORMATION: We are publishing this meeting notice under provisions of the Federal Advisory Committee Act (FACA), 5 U.S.C. Appendix. NBSAC provides advice and recommendations to the Department of Homeland Security on matters relating to recreational boating safety. See 33 U.S.C. 13110.

Agenda of Meeting

The agenda for April 16, 2013 includes:

(1) Discussion of issues related to the required carriage of safety equipment and compliance with standards and regulations in the manufacture of recreational boats.

(2) Public comment.

A final agenda will be available on http://homeport.uscg.mil/NBSAC NLT April 2, 2013.

Public Participation

We have scheduled the last fifteen minutes of the meeting, from 2:45 to 3 p.m., for oral comments from the public. If you wish to make an oral comment, please contact Mr. Jeff Ludwig, listed in the FOR FURTHER INFORMATION CONTACT section, either before the meeting or at the meeting when the members of the audience are requested to state their interest in commenting. We request that you limit your oral comments to 3 minutes. Please note that this public comment period may start before 2:45 p.m. if all other agenda items have been covered and may end before 3 p.m. if all of those wishing to comment have done so.

For information on facilities or services for individuals with disabilities or to request special assistance at the teleconference, please contact the individuals listed in the FOR FURTHER INFORMATION CONTACT section, as soon as possible.

Dated: March 26, 2013.
David S. Fish,
Captain, U.S. Coast Guard, Acting Director of Inspections and Compliance.

[FR Doc. 2013-07535 Filed 3-29-13; 8:45 am]

BILLING CODE 9110-04-P